DEPARTMENT OF HEALTH AND HUMAN SERVICES

Health Resources and Services Administration

Notice of Supplemental Award; Pediatric Mental Health Care Access Program

AGENCY: Health Resources and Services Administration (HRSA), Department of Health and Human Services.

ACTION: Notice of supplemental award.

SUMMARY: HRSA is announcing supplemental funding to expand existing Pediatric Mental Health Care Access Program (PMHCA) activities. The recipients of the supplemental awards will enhance workforce capacity in pediatric primary care, school settings, and emergency departments to address growing behavioral health needs among children and adolescents.

FOR FURTHER INFORMATION CONTACT: Lauren Ramos, Maternal and Child Health Bureau, HRSA, at LRamos@hrsa.gov or 301-443-6091.

SUPPLEMENTARY INFORMATION:

Intended Recipient(s) of the Awards: Fifty-four PMHCA award recipients will receive supplemental funding awards to continue to address behavioral health needs of children and adolescents. Funds are provided from the Bipartisan Safer Communities Act (BSCA) (Pub. L. 117-159) and PMHCA program annual appropriations. HRSA is providing supplemental funding for all PMHCA current award recipients in a manner that will ensure that, as a result of all PMHCA funding provided over the past two fiscal years (FY), all award recipients will be offered consistent funding over a consistent timeframe.

Number of Award Recipients, Project Periods, and Amount of Non-Competitive Award Offered:

• FY 2021 and FY 2022 awards (HRSA-21-122 and HRSA-22-121) have 29 award recipients:

○ FY 2021 award project period: September 30, 2021, to September 29, 2026

○ FY 2022 award project period: September 30, 2022, to September 29, 2026

○ $4,582,000 supplemental budget offered (U4A grant numbers). This is $158,000 for each of the 29 award recipients. The project period will be July 31, 2024, to September 29, 2025.

• FY 2023 awards (HRSA-23-081) have 25 award recipients:

○ FY 2023 award project period: September 30, 2023, to September 29, 2026

○ $3,950,000 supplemental budget offered (U4C grant numbers). This is $158,000 for each award recipient. Funds will be awarded on or before September 30, 2024.

• FY 2021 and FY 2022 awards (HRSA-21-122 and HRSA-22-121) have 19 award recipients:

○ FY 2021 award project period: September 30, 2021, to September 29, 2026

○ FY 2022 award project period: September 30, 2022, to September 29, 2026

○ $4,845,000 supplemental budget offered (U4A grant numbers). This is $255,000 for each award recipient that did not receive these supplemental funds in FY 2023. The project period will be July 31, 2024, to September 29, 2025.

Supplemental funding for similar activities may be considered in future years, subject to the availability of funding for the activity and the satisfactory performance of the recipient. A statutory requirement at 42 U.S.C. 254c-19(f) (§ 330M(f) of the Public Health Service Act) requires that PMHCA award recipients match federal funding with a 20 percent non-federal match.

Assistance Listing (CFDA) Number: 93.110.

Award Instrument: Supplements for Services.

Authority: 42 U.S.C. 254c-19 (§ 330M of the Public Health Service Act).

Table 1—Action 1: 29 U4A Recipients and Supplemental Award Amount
Original Award No. (supplements will be issued on new awards) | Organization name | Supplement/increase to base for all 29 U4A PMHCA awardees
U4AMC45817 | My Health Resources of Tarrant County | $158,000
U4AMC44236 | Government of the District of Columbia | 158,000
U4AMC44241 | Kentucky Cabinet for Health & Family Services | 158,000
U4AMC44256 | West Virginia Department of Health and Human Resources | 158,000
U4AMC44237 | Florida Department of Health | 158,000
U4AMC44247 | New Mexico Department of Health | 158,000
U4AMC44240 | Indiana Family and Social Services Administration | 158,000
U4AMC44246 | Republic Of Palau | 158,000
U4AMC44234 | Regents of the University of California, San Francisco | 158,000
U4AMC44235 | Connecticut Department of Children and Families | 158,000
U4AMC44248 | Health Research, Inc | 158,000
U4AMC44245 | Red Lake Band of Chippewa Indians | 158,000
U4AMC44253 | Virgin Islands Department of Health Group | 158,000
U4AMC45819 | University of Arkansas System | 158,000
U4AMC45818 | Illinois Department of Public Health | 158,000
U4AMC45815 | Commonwealth Healthcare Corporation | 158,000
U4AMC44255 | Washington State Department of Health | 158,000
U4AMC44250 | Oklahoma Department of Mental Health and Substance Abuse Services | 158,000
U4AMC44244 | Minnesota Department of Health | 158,000
U4AMC44243 | Massachusetts Department of Public Health | 158,000
U4AMC44239 | Hawaii Department of Health | 158,000
U4AMC44249 | Chickasaw Nation | 158,000
U4AMC44254 | Vermont Agency of Human Services | 158,000
U4AMC44251 | South Carolina Department of Mental Health | 158,000
U4AMC44252 | Tennessee Department of Health | 158,000
U4AMC44242 | Louisiana Department of Health | 158,000
U4AMC44257 | Wyoming Department of Health | 158,000
U4AMC44238 | Department of Behavioral Health and Developmental Disabilities (GA) | 158,000
U4AMC45816 | FSM Department of Health and Social Affairs | 158,000

Table 2—Action 2: 25 U4C Recipients and Supplemental Award Amount
Award No. | Organization name | Proposed supplement/increase to base for all 25 U4C PMHCA awardees
U4CMC32321 | Michigan Department of Health and Human Services | $158,000
U4CMC49928 | Department of Public Health & Social Services (Guam) | 158,000
U4CMC49929 | Executive Office of the Governor of Delaware | 158,000
U4CMC32323 | Alaska Department of Health and Social Services | 158,000
U4CMC32320 | Virginia Department of Health | 158,000
U4CMC32911 | Kansas Department of Health and Environment | 158,000
U4CMC49933 | University of South Dakota | 158,000
U4CMC49944 | University of Utah | 158,000
U4CMC32312 | Alabama Department of Mental Health | 158,000
U4CMC49931 | Ohio Department of Health | 158,000
U4CMC32329 | Iowa Department of Public Health | 158,000
U4CMC32316 | New Hampshire Department of Health and Human Services | 158,000
U4CMC32912 | Maine Department of Health and Human Services | 158,000
U4CMC49927 | Board of Regents of Nevada | 158,000
U4CMC49932 | University of Maryland, Baltimore | 158,000
U4CMC32314 | Mississippi Department of Mental Health | 158,000
U4CMC32322 | Nebraska Department of Health and Human Services | 158,000
U4CMC32326 | Missouri Department of Mental Health | 158,000
U4CMC49930 | North Dakota Department of Human Services | 158,000
U4CMC32327 | Colorado Department of Public Health and Environment | 158,000
U4CMC32319 | Rhode Island Department of Health | 158,000
U4CMC32324 | Wisconsin Department of Health Services | 158,000
U4CMC32317 | New Jersey Department of Health | 158,000
U4CMC32328 | Montana Department of Public Health and Human Services | 158,000
U4CMC32315 | North Carolina Department of Health & Human Services | 158,000

Table 3—Action 3: 19 U4A Recipients and Supplemental Award Amount
Original award No. (supplements will be issued on new awards issued in the first action) | Organization name | Supplement/ increase to base for 19 U4A PMHCA awardees
U4AMC45817 | My Health Resources of Tarrant County | $255,000
U4AMC44241 | Kentucky Cabinet for Health & Family Services | 255,000
U4AMC44256 | West Virginia Department of Health and Human Resources | 255,000
U4AMC44247 | New Mexico Department of Health | 255,000
U4AMC44240 | Indiana Family and Social Services Administration | 255,000
U4AMC44246 | Republic Of Palau | 255,000
U4AMC44245 | Red Lake Band of Chippewa Indians | 255,000
U4AMC44253 | Virgin Islands Department of Health Group | 255,000
U4AMC45818 | Illinois Department of Public Health | 255,000
U4AMC45815 | Commonwealth Healthcare Corporation | 255,000
U4AMC44250 | Oklahoma Department of Mental Health and Substance Abuse Services | 255,000
U4AMC44244 | Minnesota Department of Health | 255,000
U4AMC44249 | Chickasaw Nation | 255,000
U4AMC44254 | Vermont Agency of Human Services | 255,000
U4AMC44251 | South Carolina Department of Mental Health | 255,000
U4AMC44252 | Tennessee Department of Health | 255,000
U4AMC44242 | Louisiana Department of Health | 255,000
U4AMC44257 | Wyoming Department of Health | 255,000
U4AMC45816 | FSM Department of Health and Social Affairs | 255,000

Justification: HRSA is issuing non-competitive supplemental funds in FY 2024 for all PMHCA award recipients to continue to address behavioral health needs among children and adolescents. HRSA will offer supplemental funding for all 54 PMHCA current award recipients in a manner that will ensure that, as a result of all PMHCA funding provided over the past two fiscal years, all award recipients will be offered consistent funding over a consistent timeframe. If PMHCA current award recipients decline supplemental funding, that declined funding will be distributed among remaining recipients as allowable. Supplemental funding will be awarded through three consecutive actions:

• First Action: Offer supplemental funding of $158,000 to 29 PMHCA recipients who will then be tracked with new U4A grant numbers; these award recipients will continue to be tracked separately for their ARP (Pub. L. 117-2) funding.

• Second Action: Offer supplemental funding of $158,000 to 25 PMHCA recipients who are already tracked with U4C grant numbers.

• Third Action: Offer supplemental funding of $255,000 to the 19 PMHCA recipients that did not receive these supplemental funds in FY 2023, who are tracked under the new U4A grant numbers issued in the First Action.

PMHCA program award recipients will continue to expand the reach and capacity of PMHCA programs started in FY 2022 to provide training and tele-consult support to pediatric primary care providers as well as to providers in other settings, including emergency departments and educational agencies and schools.

The above activities are within the original scope of the PMHCA program (HRSA-23-081, HRSA-22-121, and HRSA-21-122).

Carole Johnson,
Administrator.

[FR Doc. 2024-18720 Filed 8-20-24; 8:45 am]

BILLING CODE 4165-15-P